DEPARTMENT OF ENERGY

Federal Energy Regulatory Commission

[Project No. 13865-000]

Clean River Power 14, LLC; Notice of Preliminary Permit Application Accepted for Filing and Soliciting Comments, Motions To Intervene, and Competing Applications

November 16, 2010.

On October 15, 2010, Clean River Power 14, LLC filed an application for a preliminary permit, pursuant to section 4(f) of the Federal Power Act (FPA), proposing to study the feasibility of the Martin Creek Hydroelectric Project (Martin Creek project) to be located on Martin and Kelley Creeks in the vicinity of Grotto, in King County, Washington. The sole purpose of a preliminary permit, if issued, is to grant the permit holder priority to file a license application during the permit term. A preliminary permit does not authorize the permit holder to perform any land-disturbing activities or otherwise enter upon lands or waters owned by others without the owners' express permission.

The proposed project will consist of the following: (1) A 40-foot-long, 8-foot-high, reinforced concrete diversion weir on Martin Creek; (2) a 45-foot-long, 15-foot-wide, 12-foot-high reinforced concrete intake structure adjacent to the Martin Creek weir with a trash rack, fish screen, and closure gate; (3) a 0.15-acre impoundment created by the Martin Creek weir; (4) a 1,100-foot-long, 3.5-foot-diameter steel penstock from the Martin Creek intake structure; (5) a 30-foot-long, 6-foot-high reinforced concrete diversion weir on Kelley Creek; (6) a 30-foot-long, 10-foot-wide, 12-foot-high reinforced concrete intake structure adjacent to the Kelley Creek weir with a trash rack, fish screen, and closure gate; (7) an approximately 0.1-acre impoundment created by the Kelley Creek weir; (8) a 800-foot-long, 3-foot-diameter steel penstock from the Kelley Creek intake structure; (9) a 9,900-foot-long, 4-foot-diameter steel penstock from the connection of the Martin and Kelley Creek penstocks to the powerhouse; (10) a 60-foot-long, 40-foot-wide reinforced concrete powerhouse containing one vertical impulse turbine with a capacity of 6.3 megawatts (MW); (11) a 40-foot-long, concrete and rip rap-lined tailrace channel to return flows from the powerhouse to Martin Creek; (12) a 7.2/115 kilovolt (kV) three stage step up transformer; (13) an approximately 7.3-mile-long, 115 kV transmission line which will tie into an undetermined interconnection; and (14) appurtenant facilities. The estimated annual generation of the Martin Creek project would be 25.0 gigawatt-hours.

Applicant Contact: Ramya Swaminthan, Clean River Power 14, LLC, 33 Commercial St., Gloucester, MA 01930; phone: (978) 283-2822.

FERC Contact: Ryan Hansen, (202) 502-8074.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13865-000) in the docket number field to access the document. For assistance, contact FERC Online Support.

Kimberly D. Bose,
Secretary.

[FR Doc. 2010-29441 Filed 11-22-10; 8:45 am]

BILLING CODE 6717-01-P